DEPARTMENT OF COMMERCE

International Trade Administration

[A-475-828]

Notice of Final Determination of Sales at Less Than Fair Value: Stainless Steel Butt-Weld Pipe Fittings From Italy

AGENCY: Import Administration, International Trade Administration, Department of Commerce.

EFFECTIVE DATE: December 27, 2000.

FOR FURTHER INFORMATION CONTACT: Helen Kramer or Nancy Decker at (202) 482-0405 and (202) 482-0196, respectively, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department of Commerce (“the Department”) regulations are to the regulations at 19 CFR Part 351 (2000).

Final Determination

We determine that stainless steel butt-weld pipe fittings (“pipe fittings”) from Italy are being, or are likely to be, sold in the United States at less than fair value (“LTFV”), as provided in section 735 of the Act. The estimated margin of sales at LTFV is shown in the “Continuation of Suspension of Liquidation” section of this notice.

Case History

The preliminary determination in this investigation was published on August 2, 2000. See Notice of Preliminary Determination of Sales at Less Than Fair Value: Stainless Steel Butt-Weld Pipe Fittings from Italy, 65 FR 47388 (August 2, 2000) (“Preliminary Determination”). The investigation covers one manufacturer/exporter, Coprosider S.p.A. (“Coprosider”).

The Department verified Coprosider's responses to the antidumping questionnaire from September 11-15, 2000 (sales verification) and from September 18-22, 2000 (cost verification). We invited parties to comment on our Preliminary Determination. Based on our analysis of the comments received, we have made changes in the margin calculation. Therefore, the final determination differs from the preliminary determination.

Period of Investigation

The Period of Investigation (“POI”) is October 1, 1998 through September 30, 1999.

Scope of Investigation

For purposes of this investigation, the product covered is certain stainless steel butt-weld pipe fittings. Pipe fittings are under 14 inches in outside diameter (based on nominal pipe size), whether finished or unfinished. The product encompasses all grades of stainless steel and “commodity” and “specialty” fittings. Specifically excluded from the definition are threaded, grooved, and bolted fittings, and fittings made from any material other than stainless steel.

The fittings subject to this investigation are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by this investigation.

This investigation does not apply to cast fittings. Cast austenitic stainless steel pipe fittings are covered by specifications A351/A351M, A743/743M, and A744/A744M.

The stainless steel butt-weld pipe fittings subject to this investigation are currently classifiable under subheading 7307.23.0000 of the Harmonized Tariff Schedule of the United States (HTSUS). Although the HTSUS subheadings are provided for convenience and customs purposes, the written description of the scope of this investigation is dispositive.

Analysis of Comments Received

All issues raised in the case and rebuttal briefs by parties to this investigation are addressed in the “Issues and Decision Memorandum for the Final Determination in the Antidumping Duty Investigation of Stainless Steel Butt-weld Pipe Fittings from Italy” (“Decision Memorandum”) from Joseph A. Spetrini, Deputy Assistant Secretary, Enforcement Group III, to Troy H. Cribb, Assistant Secretary for Import Administration, dated December 15, 2000, which is hereby adopted by this notice. A list of the issues which parties have raised and to which we have responded, all of which are in the Decision Memorandum, is attached to this notice as an Appendix. Parties can find a complete discussion of all issues raised in this investigation and the corresponding recommendations in the public memorandum which is on file in the Central Records Unit, Room B-099 of the main Department building. In addition, the Decision Memorandum can be accessed directly on the Web at http://ia.ita.doc.gov/. The paper copy and electronic version of the Decision Memorandum are identical in content.

Changes Since the Preliminary Determination

Based on our corrections to Coprosider's reported cost of production, findings at verification and analysis of comments received, we have made certain changes in the margin calculations. We have also corrected certain programming and clerical errors in our preliminary determination. These changes are discussed in the relevant sections of the Decision Memorandum.

Final Critical Circumstances Determination

As set forth in our Decision Memorandum, because the importer knowledge of dumping criterion (i.e., margins of 25 percent or more for export price sales) necessary to find critical circumstances continues to be met with respect to Coprosider, the Department affirms, for the purposes of this final determination, that critical circumstances exist for imports of pipe fittings from Coprosider.

Continuation of Suspension of Liquidation

We are directing the Customs Service to continue to suspend liquidation of entries of subject merchandise from Coprosider that are entered, or withdrawn from warehouse, for consumption on or after May 4, 2000, and to continue to suspend liquidatation of any imports from other companies of subject merchandise entered, or withdrawn from warehouse, for consumption on or after August 2, 2000. We will instruct the Customs Service to require a cash deposit or the posting of a bond equal to the weighted-average amount by which the normal value exceeds the U.S. price, as indicated in the chart below. These suspension-of-liquidation instructions will remain in effect until further notice.

The margins in the final determination are as follows:

| Margin (Percent)
Exporter/Manufacturer:
Coprosider | 26.59
All Others | 26.59

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

Dated: December 15, 2000.
Troy H. Cribb,
Assistant Secretary for Import Administration.

Appendix—Issues in Decision Memo

Comments and Responses

1 Cost of Production

A. Combining Costs of the Affiliated Suppliers/Major Input Rule

B. Facts Available

C. Selling, General and Administrative Expenses

D. Financial Expenses

2 Level of Trade

3 Usual Commercial Quantities and Ordinary Course of Trade

4 Circumstance-of-Sale Adjustment-Imputed Credit Expenses

5 U.S. Movement Expenses

6 Indirect Selling Expenses (ISE)

7 Ministerial Error

8 Critical Circumstances

9 Miscellaneous Issues

A. Model Match

B. Sample Sales and Sales to Affiliated Party

C. Correction of Errors Found At Verification

D. Use of Updated Cost Data

[FR Doc. 00-32981 Filed 12-26-00; 8:45 am]

BILLING CODE 3510-DS-P